ENVIRONMENTAL PROTECTION AGENCY

40 CFR Part 70

[EPA-R05-OAR-2007-1198; FRL-8521-4]

State Operating Permits Program; Ohio; Revision to the Acid Rain Regulations

AGENCY: Environmental Protection Agency (EPA).

ACTION: Proposed rule.

SUMMARY: EPA proposes to approve into the Ohio operating permits program revisions submitted by the State of Ohio for the purpose of amending the Acid Rain Permits and Compliance portion of the program. The changes made to OAC 3745-103, which comprises the revisions, include rules for phase II acid rain permits and new information on items incorporated by reference.

DATES: Comments must be received on or before February 25, 2008.

ADDRESSES: Submit your comments, identified by Docket ID No. EPA-R05-OAR-2007-1198, by one of the following methods:

1. www.regulations.gov: Follow the on-line instructions for submitting comments.

2. E-mail: angelbeck.richard@epa.gov.

3. Fax: (312) 886-5824.

4. Mail: Pamela Blakley, Chief, Air Permits Section, Air Programs Branch (AR 18J), U.S. Environmental Protection Agency, 77 West Jackson Boulevard, Chicago, Illinois 60604.

5. Hand Delivery: At the previously listed EPA Region 5 address. Such deliveries are only accepted during the Regional Office normal hours of operation, and special arrangements should be made for deliveries of boxed information. The Regional Office official hours of business are Monday through Friday, 8:30 a.m. to 4:30 p.m. excluding Federal holidays.

Please see the direct final rule which is located in the Rules section of this Federal Register for detailed instructions on how to submit comments.

FOR FURTHER INFORMATION CONTACT: Richard Angelbeck, Environmental Scientist, Air Permits Section, Air Programs Branch (AR-18J), U.S. Environmental Protection Agency, Region 5, 77 West Jackson Boulevard, Chicago, Illinois 60604, (312) 886-9698, angelbeck.richard@epa.gov.

SUPPLEMENTARY INFORMATION: In the Final Rules section of this Federal Register, EPA is approving the State's operating permits program revision submittal as a direct final rule without prior proposal, because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule, and if that provision may be severed from the remainder of the rule, EPA may adopt as final those provisions of the rule that are not the subject of an adverse comment. For additional information, see the direct final rule which is located in the Rules section of this Federal Register.

Dated: January 15, 2008.
Margaret Guerriero,
Acting Regional Administrator, Region 5.

[FR Doc. E8-1319 Filed 1-24-08; 8:45 am]

BILLING CODE 6560-50-P